DEPARTMENT OF TRANSPORTATION

Federal Highway Administration

[Docket No. FHWA-2024-0018]

Notice of Intent To Prepare an Environmental Impact Statement for a Proposed Highway Project in Clark County, Nevada

AGENCY: Federal Highway Administration (FHWA), Department of Transportation (USDOT).

ACTION: Notice of Intent to prepare an environmental impact statement.

SUMMARY: FHWA and Nevada Department of Transportation (NDOT) are issuing this Notice of Intent (NOI) to solicit comments and advise the public, agencies, and stakeholders that FHWA will prepare an Environmental Impact Statement (EIS) for transportation improvements to a section of Interstate 11 (I-11)/U.S. Highway 95 (US 95)/U.S. Highway 93 (US 93) in the City of Las Vegas, Clark County, Nevada. The project is referred to as the Downtown Access Project. This NOI contains a summary of information as required in the Council on Environmental Quality (CEQ) regulations for implementing the National Environmental Policy Act (NEPA). This NOI should be reviewed together with the Additional Project Information document, which contains additional important details about the proposed project. Persons and agencies who may be interested in or affected by the proposed project are encouraged to comment on the information in this NOI and the Additional Project Information document. All comments received in response to this NOI will be considered and any information presented herein, including the preliminary purpose and need, preliminary alternatives, and identified impacts, may be revised in consideration of the comments.

DATES: Comments on the NOI and/or the Additional Project Information document must be received on or before April 22, 2024.

ADDRESSES: This NOI and the Additional Project Information document are available in Docket No. FHWA-2024-0018, which is available at www.regulations.gov and on the project website located at www.ndotdap.com under the “Environmental” tab. Additional Project Information document will also be mailed upon request. All interested parties are invited to submit comments on the NOI using any of the following methods:

• Website: For access to the documents, go to the Federal eRulemaking Portal located at www.regulations.gov or the project website located at www.ndotdap.com under the “Environmental” tab. Follow the online instructions for submitting comments at www.regulations.gov.

• Phone: Abdelmoez Abdalla at (775) 687-1231 or Ryan Wheeler at (702) 278-3391.

• Mail: FHWA Nevada Division, 705 N Plaza, Suite 220, Carson City, NV 89701, Attention: Abdelmoez Abdalla; or Nevada Department of Transportation, 123 E Washington Ave., Las Vegas, NV 89101, Attention: Ryan Wheeler.

• Email address: abdelmoez.abdalla@dot.gov or rwheeler@dot.nv.gov.

• Project email address: info@ndotdap.com.

All submissions should include the agency name and the docket number that appears in this NOI. All comments received will be posted without change on http://www.regulations.gov, including any personal information provided.

The Draft EIS will include a summary of the comments received.

FOR FURTHER INFORMATION CONTACT: For further information and/or to be placed on the project mailing list, contact Abdelmoez Abdalla, Environmental Program Manager, FHWA Nevada Division, 705 N Plaza, Suite 220, Carson City, NV 89701; (775) 687-1231, abdelmoez.abdalla@dot.gov; or Ryan Wheeler, Senior Project Manager, Nevada Department of Transportation, 123 E Washington Ave., Las Vegas, NV 89101; (702) 278-3391, rwheeler@dot.nv.gov.

Persons interested in receiving project information can also use the project email address to be added to the project mailing list.

SUPPLEMENTARY INFORMATION: FHWA and NDOT are committed to public involvement for this project. All public comments received in response to this NOI will be considered and potential revisions will be made to the information presented herein as appropriate. FHWA, as the lead Federal Agency, and NDOT, as the lead State agency and project sponsor, are preparing an EIS to evaluate transportation solutions on I-11/US 95/US 93 ¹ in the City of Las Vegas, Clark County, Nevada in accordance with NEPA, as amended (42 United States Code [U.S.C.] 4321, et seq.); 23 U.S.C. 139, CEQ regulations for implementing NEPA (40 Code of Regulations [CFR] 1500-1508); FHWA regulations implementing NEPA (23 CFR 771.101-771.139, 23 CFR part 772, and 23 CFR part 774); and applicable Federal, State, and local laws and regulations.

¹ Interstate 11 (I-11) was formerly signed as Interstate 515 (I-515).

The EIS will evaluate the environmental effects of all reasonable project alternatives and determine the potential impacts to social, economic, natural, and physical environmental resources associated with these alternatives. The project team and agencies will work together to identify and mitigate any potentially significant impacts through the NEPA process. FHWA will consider, screen, and carry forward all reasonable alternatives for a detailed analysis in the Draft EIS based on their ability to address the project's purpose and need while minimizing adverse impacts to the natural and human environment.

To ensure that a full range of issues are addressed in the EIS and potential issues are identified, comments and suggestions are invited from all interested parties. FHWA requests comments on the purpose and need statement, project alternatives and impacts, and the identification of any relevant information, studies, or analyses of any kind concerning impacts to the quality of the natural and human environment. The purpose of this request is to bring relevant comments, information, and analyses to the attention of FHWA and NDOT as early in the process as possible, to enable the agency to make maximum use of this information in the decision-making process.

Purpose and Need for the Proposed Action

The purpose of the project is to address aging infrastructure, safety, and congestion along I-11/US 95/US 93 between Rancho Drive and Mojave Road in Las Vegas to increase the efficiency of the movement of people, goods, and services on the freeway. Improvements are necessary to address the following: (1) aging bridges; (2) closely spaced ramps that create short merge and weave distances; and (3) unacceptable congestion caused by increased traffic volumes on a freeway structure that has never been widened in a city that has grown 1,000 percent since I-11/US 95/US 93 was opened to traffic in 1968.

In addition to the needs, several project goals were identified to revitalize and reconnect the community. These are: (1) improve neighborhood multimodal mobility; (2) reconnect neighborhoods; (3) enhance public health and wellness; (4) improve human and natural environment; (5) improve infrastructure resiliency; and (6) support economic growth. These reflect topics important to the public, stakeholders, and agencies.

The purpose and need statement, and project goals may be revised based on the comments received during the comment period for this NOI.

Preliminary Description of the Proposed Action and Alternatives the EIS Will Consider

Three alternatives were initially developed, evaluated, and then presented to the public at a public information meeting in January 2022: Alternative 1 was a South Alternative that widened and shifted I-11/US 95/US 93 to the south; Alternative 2 was a North Alternative that widened and shifted I-11/US 95/US 93 to the north; and Alternative 3 was a Recessed Alternative in which I-11/US 95/US 93 was widened and shifted north of the existing freeway and placed below ground in an open trench for approximately 1 mile. In addition, Alternative 4 is the No Build Alternative. These alternatives included HOV lanes as well as HOV-only interchanges at Maryland Parkway and City Parkway. Preliminary impacts were identified for the alternatives and presented at the public meeting in January 2022. In spring 2022, U.S. Environmental Protection Agency (EPA) expressed concerns due to the high number of residential displacements in an environmental justice community. FHWA shared these concerns. EPA and FHWA asked NDOT to revise the alternatives to reduce impacts and to solicit more community input to better understand what the community would like to see in a reconstructed freeway (see further discussion in Description of the Public Scoping Process, later in this document). As a result of this effort, Alternatives 1, 2, and 3 (South, North, and Recessed Alternatives), as initially developed, were dismissed from further consideration due to their community impacts (i.e., the large number of displacements in the environmental justice community) and NDOT developed Alternatives 5, 6, 7, and 8.

NDOT presented these four alternatives, along with the No Build Alternative, at a public meeting in August 2023. Based on feedback from the public meeting, input from FHWA, and because of its larger footprint and high number of potential displacements, as well as the higher cost, Alternative 8 (Recessed with No HOV Interchanges) was dismissed from further consideration. Other factors in NDOT's decision to dismiss Alternative 8 from further consideration were that it would be more complex and riskier to build than Alternatives 5, 6, and 7; it would be more expensive to maintain after construction; and Union Pacific Railroad's opposition to moving their tracks to a bridge over I-11/US 95/US 93 rather than having I-11/US 95/US 93 go over their tracks.

The proposed action would reconstruct I-11/US 95/US 93 through downtown Las Vegas, including adding a general-purpose lane and continuous high-occupancy-vehicle (HOV) lane in each direction; potentially constructing a new HOV interchange; modifying ramps that connect I-11/US 95/US 93 to I-15 by adding collector-distributor roads and ramp braiding to improve traffic and safety on the freeway; and reconstructing existing interchanges along the 4-mile-long stretch of freeway.

FHWA and NDOT propose to evaluate three Build Alternatives and the No Build Alternative in the EIS. The three Build Alternatives under consideration are Alternative 5: Elevated with HOV Interchange at City Parkway, Alternative 6: Elevated with No HOV Interchange, and Alternative 7: Elevated with No HOV Interchange plus Revised I-11/US 95/US 93 Ramp Connections to I-15 North. All three Build Alternatives would remove the Las Vegas Viaduct and widen I-11/US 95/US 93 to the north. The freeway would still be elevated east of I-15, but on an earth berm with bridges over local streets. The No Build Alternative (Alternative 4) assumes no improvements other than routine maintenance.

More information on the alternatives is included in the Additional Project Information document available for review in the docket established for this project and on the project website as noted in the ADDRESSES section. NDOT and FHWA may revise the alternatives based on public comments and/or to further reduce the number of displacements based on the preliminary engineering and environmental analyses during the NEPA review. NDOT and FHWA will finalize the range of reasonable alternatives after considering comments received during the comment period on this NOI, and the comments will be documented in the Draft EIS.

Summary of Expected Impacts

The EIS will evaluate potential social, economic, and environmental impacts of implementing the Build Alternatives and the No Build Alternative. Based on a preliminary review of existing conditions within and in proximity to the study area, the environmental issues and considerations that will require the most attention by NDOT and FHWA to minimize project impacts during the environmental review process are as follows:

• Displacements. The Downtown Access Project study area is a densely developed urban area and, as a result, the project's most notable impacts would be property acquisition and displacing residences (preliminary estimates range from 46 to 51), businesses (preliminary estimates range from 2 to 11), and community/public buildings (6).

• Environmental Justice. Environmental justice populations include minority and/or low-income persons as defined in FHWA Order 6640.23A (2012) and the appendix of the USDOT Order 5610.2C (2021). Most, if not all, of the residential areas adjacent to the study area are Environmental Justice communities. There is the potential for disproportionate adverse impacts to the Environmental Justice communities because of potential displacements to residences, businesses, and community buildings, as well as noise and visual impacts.

• Cultural Resources. There are 28 properties in the study corridor area of potential effect that are either listed, eligible, or potentially eligible for listing on the National Register of Historic Places. FHWA and NDOT are assessing to determine if there would be an effect on the properties. Section 106 consultation with the State Historic Preservation Office (SHPO) and other consulting parties is underway. Under Alternatives 5 and 7 it appears there will be adverse effects to three historic buildings, and under Alternative 6 there will be an adverse effect to one historic building, pending SHPO concurrence.

• Water Resources. Las Vegas Creek is underground and crosses under I-11/US 95/US 93 at Main Street. Las Vegas Creek flows only briefly after rainfall and, therefore, may not be subject to sections 401 and 404 of the Clean Water Act.

• Section 4(f) Resources. All three Build Alternatives would result in a potential use of two recreation resources eligible for section 4(f) protection: (1) the Municipal Swimming Pool and (2) the Dula Community Center. In addition, Alternative 5 would result in the potential use of four historic resources, Alternative 6 would result in the use of two historic buildings, and Alternative 7 would result in the use of three historic buildings eligible for section 4(f) protection. Potential effects on these section 4(f) properties will be evaluated, and avoided or minimized as the project is refined during the NEPA process and section 4(f) evaluation.

The EIS will evaluate the expected impacts (including any benefits) to the resources identified above, as well as air quality, noise, hazardous and regulated materials, biological resources, community resources, and visual resources. The extent of NDOT's and FHWA's impact analysis will be commensurate with the anticipated impacts and will be governed by the statutory or regulatory requirements protecting those resources. The analyses and evaluations conducted for the EIS will identify the potential impacts and the appropriate environmental mitigation measures.

The Additional Project Information document provides additional information about the expected impacts and is available for review in the docket established for this project and on the project website as noted in the ADDRESSES section. FHWA welcomes comments on the expected impacts that it should analyze in the Draft EIS during the NOI comment period. NDOT's and FHWA's planned impact analysis may be revised after considering public comments.

Anticipated Permits and Other Authorizations

Potential permits and authorizations for the project are a section 402 stormwater permit from NDEP's Bureau of Water Pollution Control and concurrence from the Nevada SHPO for compliance with section 106 of the National Historic Preservation Act.

Cooperating agencies for this project are U.S. Environmental Protection Agency (EPA) and the Army Corps of Engineers. Participating agencies are the U.S. Department of Housing and Urban Development, the City of Las Vegas, Clark County, and the Southern Nevada Regional Housing Authority. NDOT and FHWA will give agencies and tribes another opportunity to serve as cooperating or participating agencies after the NOI is published.

FHWA will prepare an evaluation under section 4(f) of the USDOT Act of 1966, 49 U.S.C. 303 and 23 CFR part 774, and will undertake consultation under section 106 of the National Historic Preservation Act of 1966, 54 U.S.C. 300101-307108, concurrently with the NEPA environmental review processes. Section 106 tribal consultation will occur separately but coordinated within the overall EIS project level tribal involvement.

Schedule for the Decision-Making Process

FHWA and NDOT will establish the project schedule as part of the requirements of the environmental review process under 23 U.S.C. 139 and will comply with 40 CFR 1501.10(a) and (b)(2), which require that the Record of Decision be issued within 2 years of the date of publication of the NOI and that all permits are issued within 90 days of the Record of Decision. A current draft of the Project Coordination Plan, the Public Involvement Plan, and the project schedule are included in the Additional Project Information document, which is available for review in the docket established for this project and on the project website as noted in the ADDRESSES section.

The anticipated project schedule is the following:

• NOI Publication: March 2024

• Agency Scoping: April 2024

• Cooperating and Participating Agency Review and Concurrence on Purpose and Need and Alternatives: May 2024

• Cooperating and Participating Agency Review and Concurrence on Preferred Alternative: July 2024

• Notice of Availability of the Draft EIS: June 2025

• Public Hearing: July 2025

• Section 106 consultation concludes: October 2025

• Change in Access Control approved: January 2026

• Combined Final EIS/Record of Decision: March 2026

• Notice of Final Federal Action/Statute of Limitations: April 2026

• Issue all Project Permits and Authorization Decisions: July 2026 (if a Build Alternative is selected)

A Description of the Public Scoping Process

FHWA and NDOT conducted early coordination starting in May 2020, and a pre-NOI scoping meeting was held with cooperating and participating agencies in January 2021.

The first public information meeting was held from August to September 2020 (due to the declared Covid-19 pandemic, this meeting was virtual). The purpose of this meeting was to introduce the project, provide the public an opportunity to comment on the range of issues that the study should consider, and provide the public an opportunity to ask questions.

NDOT conducted a street closure outreach campaign in March and April 2021. NDOT simulated the proposed street closures for 5 weeks and requested feedback from the public about the street closures.

An Environmental Justice survey was conducted with residents and businesses in the study area in May and June 2021 to confirm demographics of the neighborhoods and assess how often adjacent residents use the freeway.

In December 2021 and February 2022, NDOT surveyed adjacent residents and businesses regarding potential mitigation measures for the project.

A second public information meeting was held in January and February 2022 to present proposed alternatives, potential community enhancements, and preliminary environmental impacts.

In Spring 2022, EPA expressed concerns about the high number of displacements and potential impacts to low-income and minority populations resulting from the preliminary alternatives. FHWA shared these concerns. EPA and FHWA asked NDOT to revise the alternatives to reduce impacts and to solicit more community input to better understand what the community would like to see in a reconstructed freeway. In response to this feedback, NDOT embarked on a 6-month effort to further engage those most likely to be impacted by the project. During this time, the team held monthly meetings with FHWA and EPA to ensure agreement on the path forward, share progress, and receive feedback during the process.

The NDOT outreach team first opened a project office at the East Las Vegas Community Center, located near I-11/US 95/US 93 and Eastern Avenue. The team also held 15 community meetings with nearly 150 participants between August 2022 and January 2023. Participants included residents, businesses, faith leaders, first responders, chambers of commerce, downtown stakeholders, and the Las Vegas Paiute Tribe. The conversation topics included the purpose and need for the project, challenges of living near the freeway, what type of freeway the community would like to see, and potential community enhancements. The feedback received during these community conversations influenced the project's revised purpose and need statement and aided in modifying the alternatives.

NDOT surveyed unhoused people that live near the freeway in January 2023.

A third public meeting was held in August 2023 to present revised alternatives, potential community enhancements, and preliminary environmental impacts.

The public and agencies will have the opportunity to submit written comments during the 30-day scoping comment period beginning on the date of this NOI publication to identify the scope of issues and potential significant issues related to the proposed action that the Draft EIS should address. Monthly meetings with Cooperating Agencies and periodic meetings with Participating Agencies will be held throughout the environmental review process. The Draft Public Involvement Plan and the Draft Project Coordination Plan included with the Additional Project Information document describe how the public and agencies will continue to be engaged during the EIS process. FHWA and NDOT will conduct additional public and agency outreach for the Draft EIS. The Draft EIS will be available for public and agency review and comment prior to the Draft EIS Public Hearing.

Request for Identification of Potential Alternatives, Information, and Analyses Relevant to the Proposed Action

The Additional Project Information document includes the draft statement of purpose and need, a description of the alternatives to be considered, the Project Coordination Plan and permitting timetable, the Public Involvement Plan, and a NEPA Milestone Schedule. With this NOI, FHWA and NDOT request and encourage State, tribal, and local government agencies, and the public to review the NOI and Additional Project Information document and submit comments about any aspect of the project. Specifically, agencies and the public are asked to comment on the purpose and need for the project, to identify and submit potential alternatives for consideration and information such as anticipated significant issues or environmental impacts and analyses relevant to the proposed action for consideration by the Lead and Cooperating Agencies in developing the Draft EIS. Any information presented herein, including the preliminary purpose and need, preliminary range of alternatives, and identification of impacts may be revised after the comments are considered. Comments must be received by April 22, 2024 and may be submitted using any of the methods described in the ADDRESSES section of this NOI. Any questions concerning this proposed action should be directed to FHWA and NDOT at the physical address, email address, or phone number provided in the FOR FURTHER INFORMATION CONTACT section of this NOI.

(Catalog of Federal Domestic Assistance Program Number 20.205, Highway Planning and Construction. The regulations implementing Executive Order 12372 regarding intergovernmental consultation on Federal programs and activities apply to this program).

Authority: 42 U.S.C. 4321, et seq.; 23 CFR part 771.

Khoa Nguyen,
Division Administrator, Carson City, Nevada.

[FR Doc. 2024-06146 Filed 3-21-24; 8:45 am]

BILLING CODE 4910-22-P